ENVIRONMENTAL PROTECTION AGENCY

[EPA-HQ-OPPT-2020-0077; FRL-10010-79]

Certain New Chemicals; Receipt and Status Information for May 2020

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN), or Microbial Commercial Activity Notice (MCAN), including an amended notice or test information; an exemption application (Biotech exemption); an application for a test marketing exemption (TME), both pending and/or concluded; a notice of commencement (NOC) of manufacture (including import) for new chemical substances; and a periodic status report on new chemical substances that are currently under EPA review or have recently concluded review. This document covers the period from 05/01/2020 to 05/31/2020.

DATES: Comments identified by the specific case number provided in this document must be received on or before July 20, 2020.

ADDRESSES: Submit your comments, identified by docket identification (ID) number EPA-HQ-OPPT-2020-0077, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Please note that due to the public health emergency the EPA Docket Center (EPA/DC) and Reading Room was closed to public visitors on March 31, 2020. Our EPA/DC staff will continue to provide customer service via email, phone, and webform. For further information on EPA/DC services, docket contact information and the current status of the EPA/DC and Reading Room, please visit https://www.epa.gov/dockets.

FOR FURTHER INFORMATION CONTACT: For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from 05/01/2020 to 05/31/2020. The Agency is providing notice of receipt of PMNs, SNUNs, and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory please go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN, or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7)). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs that have passed an initial screening by EPA during this period, Table I provides the following information (to the extent that such information is not subject to a CBI claim) on the notices screened by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Approved* From 05/01/2020 to 05/31/2020
Case No. | Version | Received date | Manufacturer | Use | Chemical substance
P-16-0417A | 3 | 5/11/2020 | CBI | (G) Adhesive for open, non-descriptive use | (G) Isocyanate terminated polyurethane resin.
P-17-0002A | 5 | 4/30/2020 | CBI | (G) Printing ink applications | (G) Styrene(ated) copolymer with alkyl(meth)acrylate, and (meth)acrylic acid.
P-17-0003A | 11 | 4/30/2020 | CBI | (G) Printing ink applications | (G) Styrene(ated) copolymer with alkyl(meth)acrylate, and (meth)acrylic acid.
P-17-0026A | 5 | 4/30/2020 | CBI | (G) Industrial Ink printing applications | (G) Cycloaliphatic diamine, polymer with .alpha-hydro-.omega.-hydroxypoly(oxy-alkanediyl), .alpha-hydro-.omega.-hydroxypoly(oxy-alkanediyl), and cycloaliphatic diisocyanate.
P-17-0195A | 8 | 5/13/2020 | CBI | (G) For manufacturing modified Ethylene vinyl alcohol copolymer | (G) 1,3-Propanediol,2-methylene-, substituted.
P-17-0324A | 2 | 5/7/2020 | Vertellus Specialties, Inc | (S) Chemical intermediate, destructive use | (S) 2,4-Hexadien-1-ol, 1-acetate, (2E,4E)-.
P-17-0333A | 8 | 5/15/2020 | Miwon North America, Inc | (S) Reactive diluent for optical film coating | (G) 2-Propenoic acid, mixed esters with heterocyclic dimethanol and heterocyclic methanol.
P-17-0376A | 7 | 5/18/2020 | Innovative Chemical Technologies, Inc | (S) Textile additive | (G) 2-Propenoic acid, 2-methyl-, 2-hydroxyethyl ester polymer with hexadecyl 2-propenoate, octadecyl 2-propenoate and 3,3,4,4,5,5,6,6,7,7,8,8,8-tridecasubstitutedoctyl 2-propenoate.
P-17-0377A | 7 | 5/18/2020 | Innovative Chemical Technologies, Inc | (S) Textile Additive | (G) 2-Propenoic acid, 2-methyl-, 2-hydroxyethyl ester, polymer with hexadecyl 2-propenoate, octadecyl 2-propenoate and 3,3,4,4,5,5,6,6,7,7,8,8,8-tridecasubstitutedoctyl 2-methyl-2-propenoate.
P-17-0378A | 7 | 5/18/2020 | Innovative Chemical Technologies, Inc | (S) Textile additive | (G) 2-Propenoic acid, 2-methyl-, hexadecyl ester, polymer with 2-hydroxyethyl 2-methyl-2-propenoate, octadecyl 2-methyl-2-propenoate and 3,3,4,4,5,5,6,6,7,7,8,8,8-tridecasubstitutedoctyl 2-propenoate.
P-17-0379A | 7 | 5/18/2020 | Innovative Chemical Technologies, Inc | (S) Textile Additive | (G) 2-Propenoic acid, 2-methyl-, hexadecyl ester, polymer with 2-hydroxyethyl 2-methyl-2-propenoate, octadecyl 2-methyl-2-propenoate and 3,3,4,4,5,5,6,6,7,7,8,8,8-tridecasubstitutedoctyl 2-methyl-2-propenoate.
P-18-0146A | 3 | 5/19/2020 | Arakawa Chemical (USA), Inc | (G) Primer paint binders for open non-dispersive uses | (G) Modified fat amines, polymers with bisphenol A, alkanolamines, epichlorohydrin, alkylamine and substituted isocyanato [isocyanatoalkylcarbomonocyle].
P-18-0151A | 10 | 5/21/2020 | Struers, Inc | (S) A curing agent for curing epoxy systems | (S) Formaldehyde, reaction products with 1,3-benzenedimethanamine and p-tert-butylphenol.
P-18-0153A | 3 | 5/20/2020 | CBI | (G) Mixed metal oxide for batteries | (G) Lithium mixed metal oxide.
P-18-0170A | 5 | 5/23/2018 | CBI | (G) Textile treatment | (S) 1-Propanaminium, N,N′-(oxydi-2,1-ethanediyl)bis[3-chloro-2-hydroxy-N,N-dimethyl-, dichloride.
P-18-0178A | 3 | 5/20/2020 | CBI | (S) Stabilizer for PVC | (G) Dialkyltin dialkylcarboxylate.
P-18-0217A | 4 | 5/20/2020 | Galata Chemicals, LLC | (S) Stabilizer for PVC compound | (G) Alkyltin dodecylthioester.
P-18-0218A | 4 | 5/20/2020 | Galata Chemicals, LLC | (S) Stabilizer for PVC compound | (G) Alkyltin tetradecylthioester.
P-18-0235A | 3 | 12/28/2018 | CBI | (S) Component in automotive gasoline/transportation fuel for consumer use | (G) Naphtha Oils.
P-18-0289A | 5 | 5/22/2020 | CBI | (G) Gas scrubbing, landfill deoderizing, and wastewater deoderizing | (G) 2-(2(methylcaboxymonocyclic)amino)ethoxy)-alcohol.
P-18-0290A | 5 | 5/22/2020 | CBI | (G) Gas scrubbing, wastewater deoderizing, and landfill odor neutralizing | (G) Carbomonocylic-oxazolidine.
P-18-0320A | 2 | 5/1/2020 | CBI | (G) Hardner | (G) Alkane, diisocyanato-(isocyanatoalkyl)-.
P-18-0330A | 3 | 5/20/2020 | CBI | (G) initiator | (G) Formaldehyde, polymer with alkyl aryl ketone.
P-18-0332A | 2 | 5/21/2020 | Cargill, Inc | (G) a component in building materials | (S) Canola Meal.
P-18-0333A | 2 | 5/21/2020 | Cargill, Inc | (G) a component in building materials | (S) Flaxseed Meal.
P-18-0340A | 3 | 5/18/2020 | Lanxess Solutions US, Inc | (S) One component thermoset elastomer manufacture | (S) Poly(oxy-1,4-butanediyl), alpha-hydro-omega-hydroxy-, polymer with 1,1′-methylenebis[4-isocyanatobenzene], caprolactam-blocked.
P-18-0348A | 2 | 5/18/2020 | Lanxess Solutions US, Inc | (S) Thermoplastic elastomer manufacture/Injection Moulding | (S) Ethanol, 2,2′-[1,4-phenylenebis(oxy)]bis-, polymer with 1,6-diisocyanatohexane and -hydro—hydroxypoly(oxy-1,4-butanediyl).
P-18-0349A | 4 | 5/18/2020 | Lanxess Solutions US, Inc | (S) Two component adhesives and protective coatings for marine, infrastructure, etc | (S) Oxirane, 2-methyl-, polymer with oxirane, ether with 1,2,3-propanetriol (3:1), polymer with 2,4-diisocyanato-1-methylbenzene, branched 4-nonylphenol-blocked.
P-18-0350A | 3 | 5/14/2020 | Evonik Corporation | (S) Additive in water-borne UV-curable coatings, Filler pigment treatment, and Glass fiber treatment | (G) Aqueous methacrylamido modified polysiloxane.
P-18-0360A | 2 | 5/18/2020 | Lanxess Solutions, US Inc | (S) Two component adhesives and protective coatings for marine, infrastructure, etc | (S) Oxirane, 2-methyl-, polymer with 2,4-diisocyanato-1-methylbenzene, 2-methyloxirane polymer with oxirane ether with 1,2,3-propanetriol (3:1), and oxirane, cashew nutshell liq.- and Pr alc. -blocked.
P-18-0361A | 4 | 5/18/2020 | Lanxess Solutions, US Inc | (S) Electrophoretic paint | (S) Propanoic acid, 3-hydroxy-2-(hydroxymethyl)-2-methyl-, polymer with 1,3,5-tris(6-isocyanatohexyl)-1,3,5-triazine-2,4,6(1H,3H,5H)-trione, 3,5-dimethyl- 1H-pyrazole-blocked.
P-18-0362A | 2 | 5/18/2020 | Lanxess Solutions, US Inc | (S) Corrosion protection coatings | (S) 1,3-Propanediol, 2-ethyl-2-(hydroxymethyl)-, polymer with 2,4-diisocyanato-1-methyl-benzene, -hydro—hydroxypoly[oxy(methyl-1,2-ethanediyl)] and -1,2,3-propanetriyltris[-hydroxypoly[oxy(methyl-1,2-ethanediyl)]], Me Et ketone oxime -blocked.
P-18-0380A | 7 | 5/7/2020 | CBI | (G) Automotive brake parts (contained use) | (G) Butanoic acid ethyl amine.
P-18-0403A | 4 | 5/22/2020 | Clariant Plastics & Coatings USA, Inc | (S) Dispersing agent for pigments, paints, and coatings | (S) 2-Propenoic acid, 2-methyl-, butyl ester, polymer with 2-(dimethylamino)ethyl 2-methyl-2-propenoate and 2-ethylhexyl 2-methyl-2-propenoate.
P-18-0405A | 5 | 5/20/2020 | CBI | (G) adhesive | (S) Phenol, 4,4′-(1-methylethylidene)bis-, polymer with 3,6,9,12-tetraoxatetradeca-1,13-diene, glycidyl ether.
P-19-0041A | 3 | 5/1/2020 | CBI | (G) Oil water separation | (G) Alkyl diester, polymer with (dialkylamino alkyl) amine and bis(halogenated alkyl) ether.
P-19-0042A | 3 | 5/1/2020 | CBI | (G) Oil water separation | (G) Alkyl diester, polymer with (dialkylamino alkyl) amine and bis(halogenated alkyl) ether.
P-19-0043A | 3 | 5/1/2020 | CBI | (G) Oil water separation | (G) Alkyl dicarboxylic acid, polymer with (dialkylamino alkyl) amine and bis(halogenated alkyl) ether.
P-19-0044A | 3 | 5/1/2020 | CBI | (G) Oil water separation | (G) Alkyl bis(dialkylamino alkyl) amide polymer with bis(halogenated alkyl) ether.
P-19-0053A | 9 | 5/19/2020 | Wacker Chemical Corporation | (S) Used as a surface treatment, sealant, caulk, and coating for mineral building materials such as concrete, brick, limestone, and plaster, as well as on wood, metal and other substrates | (S) 1-Butanamine, N-butyl-N-[(triethoxysilyl)methyl]-.
P-19-0064A | 7 | 3/27/2020 | The Sherwin Williams Company | (G) Polymeric film former for coatings | (G) 4,4′-methylenebis[2,6-dimethyl phenol] polymer with 2-(chloromethyl)oxirane, 1,4-benzyl diol, 2-methyl-2-propenoic acid, butyl 2-methyl 2-propenoate, ethyl 2-methyl 2-propenoate, and ethyl 2-propenoate, reaction products with 2-(dimethylamino) ethanol.
P-19-0064A | 8 | 5/15/2020 | The Sherwin Williams Company | (G) Polymeric film former for coatings | (G) 4,4′-methylenebis[2,6-dimethyl phenol] polymer with 2-(chloromethyl)oxirane, 1,4-benzyl diol, 2-methyl-2-propenoic acid, butyl 2-methyl 2-propenoate, ethyl 2-methyl 2-propenoate, and ethyl 2-propenoate, reaction products with 2-(dimethylamino) ethanol.
P-19-0084A | 3 | 5/13/2020 | CBI | (S) Flame retardant | (S) DIphosphoric acid, compd. with 1,3,5-triazine-2,4,6-triamine (1:2).
P-19-0109A | 10 | 5/6/2020 | Arch Chemicals, Inc | (G) The chemical is used as a component of a cleaning formulation to improve the wettability of the overall cleaning solution on the substrate | S) Copper, [[2,2′,2″-(nitrilo-.kappa.N)tris[ethanolato-.kappa.O]](2-)]-;(S) Copper, bis[2-(amino-.kappa.N)ethanolato-.kappa.O]-;.
P-19-0116A | 5 | 5/26/2020 | CBI | (S) Silk protein for production of fiber, Skincare use as additive in dermal moisturizing lotions | (G) sr-(Wasp Spider Polypeptide-1 Oligopeptide-178).
P-19-0153A | 6 | 4/30/2020 | Wego Chemical Group | (S) Raw material in Flame Retardant product | (G) Dibromoalkyl ether Tetrabromobisphenol A.
P-19-0153A | 7 | 5/5/2020 | Wego Chemical Group | (S) Raw material in Flame Retardant product | (G) Dibromoalkyl ether Tetrabromobisphenol A.
P-20-0005A | 5 | 5/8/2020 | RMC Advanced Technologies, Inc | (G) Additive for plastics and resins | (G) modified graphene.
P-20-0010A | 7 | 5/8/2020 | CBI | (G) Polymerization auxiliary | (G) Carboxylic acid, reaction products with metal hydroxide, inorganic dioxide and metal.
P-20-0015A | 6 | 5/21/2020 | GE Healthcare | (S) The polymer is used in the manufacture of hollow fiber products | (G) N-alkyl heteromonocyclic diphenolamide, polymer with Bisphenol A, haloaryl-substituted sulfone, compd. with cyclic sulfonate ester, polyaryl alcohol terminated.
P-20-0036A | 3 | 5/21/2020 | Sigma-Aldrich Co., LLC | (G) Used in the manufacture of Lithium-6 Chloride | (S) Carbonic acid, di(lithium-6Li) salt.
P-20-0037A | 4 | 5/21/2020 | Sigma-Aldrich Co., LLC | (G) The material is used in manufacturing devices for gamma and neutron radiation detection | (S) Lithium Chloride (6LiCl).
P-20-0047 | 6 | 5/14/2020 | Nanosystems, Inc | (S) Hydrophilic polyurethane prepolymer used to manufacture flexible foams | (G) Oxirane, 2-methyl-, polymer with oxirane, ether with propanetriol (3:1), polymer with poly(oxy-1,2-ethanediyl) and methylenebis[isocyanatobenzene].
P-20-0062A | 2 | 5/11/2020 | Inabata America Corporation | (S) Use as an electrically conductive material, an additive in field emission applications, an additive in batteries, energy storage, and electrode applications, an additive to improve physical or mechanical properties, an additive for weight reduction, a heat generation and dissipation material | (S) Multi-walled carbon nanotubes; closed; 4.4-12.8 nm diameter; bundle length 10.6-211.1 um; Grade: Jenotube 6 (Substance-1).
P-20-0063A | 2 | 5/11/2020 | Inabata America Corporation | (S) Use as an electrically conductive material, an additive in field emission applications, an additive in batteries, energy storage, and electrode applications, an additive to improve physical or mechanical properties, an additive for weight reduction, a heat generation and heat dissipation material | (S) Multi-walled carbon nanotubes; closed; 5.1-11.6 nm diameter; bundle length 1.9-552.0 um; Grade: Jenotube 8 (Substance-2).
P-20-0064A | 2 | 5/11/2020 | Inabata America Corporation | (S) Use as an additive in batteries, energy storage, and electrode applications, an additive to improve physical or mechanical properties, an additive for weight reduction, a heat generation and dissipation material, and electrically conductive material and an additive in field emission applications | (S) Multi-walled carbon nanotubes; closed; 7.9-14.2 nm diameter; bundle length 9.4-106.4 um; Grade: Jenotube 10 (Substance-3).
P-20-0065A | 2 | 5/11/2020 | Inabata America Corporation | (S) Use as an electrically conductive material, an additive in field emission applications, batteries, energy storage, and electrode applications. Use as an additive to improve physical or mechanical properties, an additive for weight reduction, a heat generation and heat dissipation material | (S) Multi-walled carbon nanotubes; closed; 17.0-34.7 nm diameter; globular shape; Grade: Jenotube 20 (Substance-4).
P-20-0069A | 3 | 5/15/2020 | CBI | (G) Surface-active chemical | (G) 2-Propenoic acid, 2-methyl-, polymer with 2-hydroxyethyl 2-methyl-2-propenoate phosphate and 2-propenoic acid salt, peroxydisulfuric acid ([(HO)S(O)2]2O2) sodium salt (1:2)- and sodium (disulfite) (2:1)-initiated.
P-20-0069A | 4 | 5/16/2020 | CBI | (G) Surface-active chemical | (G) 2-Propenoic acid, 2-methyl-, polymer with 2-hydroxyethyl 2-methyl-2-propenoate phosphate and 2-propenoic acid salt, peroxydisulfuric acid ([(HO)S(O)2]2O2) sodium salt (1:2)- and sodium (disulfite) (2:1)-initiated.
P-20-0076A | 2 | 5/21/2020 | Cytec Industries, Inc | (G) Mining chemical | (S) Glycine, reaction products with sodium O-iso-Pr carbonodithioate, sodium salts.
P-20-0085 | 5 | 5/7/2020 | Luna Innovations, Inc | (S) Fluid resistant coatings | (G) Bis(triethoxysilylpropyl carbamate) perfluoropolyether.
P-20-0085A | 6 | 5/14/2020 | Luna Innovations, Inc | (S) Fluid resistant coatings | (G) Bis(triethoxysilylpropyl carbamate) perfluoropolyether.
P-20-0086A | 3 | 5/11/2020 | Daicel Chemtech, Inc | (G) Component of polymers | (G) 2-Oxepanone, homopolymer, ester with hydroxyalkyl trioxo heteromonocyclic (3:1).
P-20-0092 | 5 | 5/22/2020 | CBI | (G) Coloration of fabric | (G) Napthalenesulfonic acid, amino-hydroxy-bis [sulfo-[(sulfooxy)ethyl]sulfonyl]phenyl]diazinyl]-, potassium sodium salt.
P-20-0093 | 2 | 5/4/2020 | Ashland, Inc | (G) Coating | (G) Alkanoic acid, 3-hetero-atom substituted-2-(heteroatom-substituted alkyl)-2-alkyl-, polymer with 1,2-alkanediamine, alpha-hydro-omega-heteroatom-substituted poly(oxy-1,4-alkanediyl) and 5-hetero-atom substituted- 1- (heteroatom-substituted alkyl)-1, 3, 3- trialkylcycloalkane.
P-20-0093A | 3 | 5/21/2020 | Ashland, Inc | (G) Coating | (G) Alkanoic acid, 3-hetero-atom substituted-2-(heteroatom-substituted alkyl)-2-alkyl-, polymer with 1,2-alkanediamine, alpha-hydro-omega-heteroatom-substituted poly(oxy-1,4-alkanediyl) and 5-hetero-atom substituted- 1- (heteroatom-substituted alkyl)-1, 3, 3- trialkylcycloalkane.
P-20-0094 | 1 | 4/29/2020 | CBI | (S) Formulation component in UV/EB coatings, inks and 3D printing/stereolithography/additive and Formulation component in UV/EB adhesive manufacturing | (G) Alkanedioic acid, polymer with tri-alkyl-isocyanatocarbomonocycle, dialkylglycols, ester with 2,3-dihydroxypropyl alkyl ester, 2-hydroxyethyl methacrylate-blocked.
P-20-0095 | 1 | 5/4/2020 | Evonik Corporation | (S) Additive to improve melt flow, scratch resistance, demoulding and lower COF of thermoplastic compounds | (S) Siloxanes and Silicones, di-Me, [(phenylsilylidyne)tris(oxy)]tris-, 3-(2-hydroxyethoxy)propyl group-terminated, triesters with 2-oxepanone homopolymer.
P-20-0096 | 2 | 5/19/2020 | CBI | (G) Use in papermaking process | (G) Unsaturated dicarboxylic acid polymer with 2-(dialkylamino)alkyl-alkyl-alkanoate, N, N-dialkyl-alkene amide, 2-propenamide and salt of alkyl-substituted alkene sulfonate.
P-20-0097 | 1 | 5/7/2020 | Nelson Brothers, LLC | (S) The PMN substance will be used as an emulsifier for applications in explosives | (G) Butanedioic acid, monopolyisobutylene derivs., mixed dihydroxyalkyl and hydroxyalkoxyalkyl diesters.
P-20-0102 | 1 | 5/22/2020 | Novihum Technologies, Inc | (S) Fertilizer/Soil amendment | (S) Chemical Abstract (CA) index name: Coal, brown, ammoxidized.
P-20-0104 | 2 | 5/26/2020 | CBI | (G) Additive | (G) Alkenoic acid, polymer with (alkyl alkenyl) polyether.
SN-19-0006A | 4 | 5/13/2020 | CBI | (G) Component for 3D Printing formulations | (S) 2-Propen-1-one, 1-(4-morpholinyl)-.
SN-19-0006A | 5 | 5/15/2020 | CBI | (G) Component for 3D Printing formulations | (S) 2-Propen-1-one, 1-(4-morpholinyl)-.
* The term ‘Approved’ indicates that a submission has passed a quick initial screen ensuring all required information and documents have been provided with the submission prior to the start of the 90-day review period, and in no way reflects the final status of a complete submission review.

In Table II of this unit, EPA provides the following information (to the extent that such information is not claimed as CBI) on the NOCs that have passed an initial screening by EPA during this period: The EPA case number assigned to the NOC including whether the submission was an initial or amended submission, the date the NOC was received by EPA, the date of commencement provided by the submitter in the NOC, a notation of the type of amendment (e.g., amendment to generic name, specific name, technical contact information, etc.) and chemical substance identity.

Table II—NOCs Approved * From 05/01/2020 to 05/31/2020
Case No. | Received date | Commencement date | If amendment, type of amendment | Chemical substance
P-00-0536 | 05/27/2020 | 04/06/2020 | N | (G) Polyoxyalkylene solution with trimethylolpropane, 1,4 cyclohexane dimethanol, cyclic aliphatic anhydrides and trimellitic anhydride.
P-08-0378 | 05/05/2020 | 04/21/2020 | N | (G) Arylalkylamine, n-[4-[2-(substitutedaryl)diazinyl]arylamino]-.
P-11-0581 | 05/08/2020 | 12/18/2011 | N | (S) 1h-1,2,4-triazole-5-acetic acid, 1-acetyl-3-[4-(1,1-dimethylethyl)phenyl]-, 2,6-bis(1,1-dimethylethyl)-4-methylcyclohexyl ester.
P-11-0582 | 05/08/2020 | 12/19/2011 | N | (S) 1h-1,2,4-triazole-5-acetic acid, 1-acetyl-alpha-bromo-3-[4-(1,1-dimethylethyl)phenyl]-, 2,6-bis(1,1-dimethylethyl)-4-methylcyclohexyl ester.
P-14-0342 | 05/07/2020 | 05/01/2020 | N | (G) Poly[oxy(methyl-1-2-ethanedilyl)], alpha-(2-propylalkyl) )-omega-hydroxy-.
P-16-0445 | 05/22/2020 | 05/21/2020 | N | (G) Carboxylic acids, unsaturated, hydrogenated polymers with substituted alkanediamine, alkanediol, substituted alkylpropanoic acid, alkanedioic acid and substituted isocyanatocycloalkane, compds with alkylamine.
P-16-0451 | 05/29/2020 | 05/21/2020 | N | (G) Siloxane binder.
P-17-0191 | 05/12/2020 | 04/12/2020 | N | (G) Alkyldiamine, aminoalkyl dimethylaminoalkyl dimethyl-, reaction products with propylene oxide.
P-17-0345 | 05/08/2020 | 05/07/2020 | N | (G) Alkanediol, polymer with alkylenebis(4-isocyanatocarbomoncycle), alkylaminoalkyl methacrylate-blocked.
P-17-0346 | 05/13/2020 | 05/05/2020 | N | (G) Triarylalkyl phosphonium halide salt.
P-18-0092 | 05/22/2020 | 03/06/2020 | N | (S) Tri-n-butyl methyl phosphonium iodide.
P-18-0098 | 04/30/2020 | 04/30/2020 | N | (G) Polyphosphoric acids, polymers with (alkoxyalkoxy)alkanol and substituted heteromonocycle.
P-18-0121 | 05/26/2020 | 05/17/2020 | N | (S) Benzene, 1,1′-oxybis-, branched eicosyl derivs.
P-18-0341 | 05/28/2020 | 05/12/2020 | N | (G) Alkane dicarboxylic acid, polymer with alkoxylated polyalcohol, alkyl polyglycol, alkyl dialcohol, and functionalized carboxylic acid.
P-18-0342 | 05/27/2020 | 05/11/2020 | N | (G) Alkane dicarboxylic acid, polymer with alkyl polyglycol, alkyl dialcohol, and functionalized carboxylic acid.
P-19-0137 | 05/04/2020 | 05/01/2020 | N | (S) Octadecene, reaction products with hexadecene, hydrogenated.
P-19-0189 | 05/01/2020 | 04/21/2020 | N | (S) Fatty acids, c18-unsatd., dimers, hydrogenated, polymers with 1,6-hexanediol and 1,1′-methylenebis[4- isocyanatobenzene].
P-20-0013 | 05/05/2020 | 04/14/2020 | N | (S) 2-propenoic acid, 2-methyl-, (2-oxo-1,3-dioxolan-4-yl)methyl ester.
* The term `Approved' indicates that a submission has passed a quick initial screen ensuring all required information and documents have been provided with the submission.

In Table III of this unit, EPA provides the following information (to the extent such information is not subject to a CBI claim) on the test information that has been received during this time period: The EPA case number assigned to the test information; the date the test information was received by EPA, the type of test information submitted, and chemical substance identity.

Table III—Test Information Received from 05/01/2020 to 05/31/2020
Case No. | Received date | Type of test information | Chemical substance
L-18-0155 | 05/22/2020 | Certificate of Analysis (Terasil Black W-S Box 25KG) | (G) Glycine, [acetylamino-[(bromo-nitroaryl)azenyl]-methoxyaryl]-(methoxy-oxoethyl), alkyl ester.
L-20-0018 | 05/19/2020 | Alga, Growth Inhibition Test with Pseudokirchneriella subcapitata, 72 hours (OECD Test Guideline 201) | (S) Poly[oxy(methyl-1,2-ethanediyl)], .alpha.-[4-(ethenyloxy)butyl]-.omega.-hydroxyl-.
P-16-0462 | 05/11/2020 | Metals Analysis Report for Quarter 1 2020 (Method 6010B) | (G) Silane-treated aluminosilicate.

If you are interested in information that is not included in these tables, you may contact EPA's technical information contact or general information contact as described under FOR FURTHER INFORMATION CONTACT to access additional non-CBI information that may be available.

Authority: 15 U.S.C. 2601 et seq.

Dated: June 8, 2020.
Pamela Myrick,
Director, Information Management Division, Office of Pollution Prevention and Toxics.

[FR Doc. 2020-13135 Filed 6-17-20; 8:45 am]

BILLING CODE 6560-50-P